NUCLEAR REGULATORY COMMISSION

[NRC-2010-0311]

Issuance of Regulatory Guide

AGENCY: Nuclear Regulatory Commission.

ACTION: Notice.

SUMMARY: The Nuclear Regulatory Commission (NRC) is providing notice of the issuance and availability of Regulatory Guide 1.193, Rev. 3, “ASME Code Cases Not Approved for Use.”

FOR FURTHER INFORMATION CONTACT: Wallace E. Norris, Component Integrity Branch, Division of Engineering, Office of Nuclear Regulatory Research, U.S. Nuclear Regulatory Commission, Washington, DC 20555-0001, telephone (301) 251-7650 or e-mail Wallace.Norris@nrc.gov.

SUPPLEMENTARY INFORMATION:

I. Introduction

The NRC is issuing Regulatory Guide (RG) 1.193 in the agency's “Regulatory Guide” series. This series was developed to describe and make available to the public specific program information. This information includes methods acceptable to the NRC staff for implementing specific parts of the agency's regulations, techniques the staff uses in evaluating specific problems or postulated accidents, and data the staff needs in its review of applications for permits and licenses.

II. Discussion

RG 1.193 lists the Code Cases that NRC has determined not to be acceptable for use on a generic basis. Two separate RGs list Code Cases that NRC has found to be acceptable alternatives to requirements in the American Society of Mechanical Engineers (ASME) Boiler and Pressure Vessel Code. RG 1.84, Rev. 35, “Design, Fabrication, and Materials Code Case Acceptability, ASME Section III,” lists all Section III Code Cases that NRC has approved for use. RG 1.147, Rev. 16, “Inservice Inspection Code Case Acceptability, ASME Section XI, Division 1,” lists all Section XI Code Cases that NRC has approved for use. RG 1.84 and RG 1.147 are being noticed under a separate notice of availability.

For Revision 3 of RG 1.193, NRC reviewed the Code Cases listed in Supplements 2-11 to the 2004 Edition of the ASME Boiler and Pressure Vessel (BPV) Code and Supplement 0 to the 2007 Edition (Supplement 0 also serves as Supplement 12 to the 2004 Edition). A brief description of the basis for the unacceptability determination is provided with each Code Case in RG 1.193. Licensees may submit a request to implement one or more of the Code Cases listed in RG 1.193 through 10 CFR 50.55a(a)(3), which permits the use of alternatives to the Code requirements referenced in 10 CFR 50.55a provided that the proposed alternatives result in an acceptable level of quality and safety. Licensees must submit a plant-specific request that addresses NRC's concerns about the Code Case at issue.

III. Further Information

In June 2009, draft Regulatory Guide (DG) 1191, DG 1192, and DG 1193 were published with a public comment period of 60 days from their issuance. The comment period closed on August 16, 2009. Copies of the final RGs are available in ADAMS under Accession Numbers ML101800532 (RG 1.84), ML101800536 (RG 1.147), and ML101800540 (RG 1.193).

The responses to the public comments on the three RGs are contained in the final rule that incorporates RG 1.84 and RG 1.147 by reference into Title 10, part 50, of the Code of Federal Regulations (10 CFR part 50), “Domestic Licensing of Production and Utilization Facilities,” and is available in NRC's Agencywide Documents Access and Management System (ADAMS) under Accession No. ML100560148. For further information on the final rule, contact Manash K. Bagchi, Office of Nuclear Reactor Regulation, U.S. Nuclear Regulatory Commission, Washington, DC 20555-0001, telephone (301) 415-2905, e-mail Manash.Bagchi@nrc.gov.

Electronic copies of RG 1.84, RG 1.147, and RG 1.193 are available through NRC's public Web site under “Regulatory Guides” at http://www.nrc.gov/reading-rm/doc-collections/.

In addition, RGs are available for inspection at NRC's Public Document Room (PDR) located at 11555 Rockville Pike, Rockville, Maryland. The PDR's mailing address is USNRC PDR, Washington, DC 20555-0001. The PDR also can be reached by telephone at (301) 415-4737 or (800) 397-4205, by fax at (301) 415-3548, and by e-mail to pdr.resource@nrc.gov.

Regulatory guides are not copyrighted and NRC approval is not required to reproduce them.

Dated at Rockville, Maryland, this 6th day of August 2010.
For the Nuclear Regulatory Commission.
Harriet Karagiannis,
Acting Chief, Regulatory Guide Development Branch, Division of Engineering, Office of Nuclear Regulatory Research.

[FR Doc. 2010-24810 Filed 10-4-10; 8:45 am]

BILLING CODE 7590-01-P